ENVIRONMENTAL PROTECTION AGENCY

[ER-FRL-6629-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-AFS-J65359-MT Rating EC2, Lolo National Forest Post Burn Management Activities, Implementation, Ninemile, Superior and Plains Ranger Districts, Mineral Missoula and Sanders Counties, MT.

Summary: EPA expressed environmental concerns with water quality proposed management actions in the 303(d) listed Ninemile Creek and Trout Creek drainages and suggested coordinating with the State's TMDL development efforts. EPA recommends that the final EIS should include a summary of major actions in the project area (and including adjacent lands) which may contribute to cumulative effects.

ERP No. D-FHW-F40405-IL Rating EC2, US 34/FAP 313 Transportation Facility Improvement Project, US 34 from the Intersection of Carman Road east of Gulfport to Monmouth, Funding and US Army COE Section 404 and NPDES Permits Issuance, Henderson and Warren Counties, IL.

Summary: EPA has identified issues, and expressed environmental concerns, relating to characterization of existing water quality, impacts to impaired waters and impacts to Botanical Site #3, a small sand hill prairie with a diverse mixture of grasses and forbs. Accordingly, EPA has requested additional information.

Final EISs

ERP No. F-AFS-J65348-CO Bark Beetle Analysis, Proposal to Reduce Infestation of Trees by Tree-Killing Bark Beetles, Medicine Bow-Routt National Forests, Hahans Peak/Bears Ears Ranger District, Routt, Grand, Jackson and Moffat Counties, CO.

Summary: EPA generally supports the suppression and control actions; however, EPA expressed environmental concerns regarding impacts from 15.3 miles of new roads and the effectiveness of preventative thinning to avert a predicted beetle epidemic.

ERP No. F-FHW-F40388-WI US-14/61 Westby—Virogua Bypass Corridor Study, Transportation Improvements, Funding and US Army COE Section 404 Permit, Cities of Virogua and Westby, Vernon County, WI.

Summary: EPA has no objection to the proposed action.

ERP No. F-NPS-J65346-WY Devil's Tower National Monument General Management Plan, Implementation, Crook County, WY.

Summary: No formal comment letter was sent to the preparing agency.

ERP No. F-UAF-J11019-MT Montana Air National Guard Air-to-Ground Training Range Development for Use by the 120th Fighter Wing (120th FW), Implementation, Phillips and Blaine Counties, MT.

Summary: EPA continues to express environmental concerns regarding impacts to people and wildlife from noise and visual stimuli from low altitude F-16 flights and other range activities.

ERP No. F-USA-J13000-CO Pueblo Chemical Depot, Destruction of Chemical Munitions, Design, Construction, Operation and Closure of a Facility, Pueblo County, CO.

Summary: No formal comment letter was sent to the preparing agency.

Dated: May 21, 2002.
Joseph C. Montgomery,
Director, NEPA Compliance Division, Office of Federal Activities.

[FR Doc. 02-13154 Filed 5-23-02; 8:45 am]

BILLING CODE 6560-50-P